OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 213.103.

FOR FURTHER INFORMATION CONTACT: Roland Edwards, Senior Executive Resource Services, Employee Services, 202-606-2246.

SUPPLEMENTARY INFORMATION: Appearing in the listing below are the individual authorities established under Schedules A, B, and C between September 1, 2010, and September 30, 2010.

These notices are published monthly in the Federal Register at http://www.gpoaccess.gov/fr/. A consolidated listing of all authorities as of June 30 is also published each year. The following Schedules are not codified in the Code of Federal Regulations. These are agency-specific exceptions.

Schedule A

No Schedule A authorities to report during September 2010.

Schedule B

No Schedule B authorities to report during September 2010.

Schedule C

The following Schedule C appointments were approved during August 2010.

Office of Management and Budget

BOGS10023 Confidential Assistant for Strategic Planning and Communications. Effective September 8, 2010.

Office of National Drug Control Policy

QQGS10012 Associate Director for Public Affairs. Effective September 7, 2010.

Office of the United States Trade Representative

TNGS00040 Director of Congressional Affairs. Effective September 10, 2010.

Department of the Treasury

DYGS00486 Policy Advisor to the Secretary. Effective September 13, 2010.

Department of Defense

DDGS17298 Defense Fellow for White House Liaison. Effective September 10, 2010.

DDGS17299 Defense Fellow for White House Liaison. Effective September 10, 2010.

DDGS17302 Speechwriter. Effective September 17, 2010.

DDGS17301 Special Assistant of Defense (Nuclear, Chemical and Biological Defense Programs). Effective September 22, 2010.

Department of Justice

DJGS00202 Counsel for the Criminal Division. Effective September 8, 2010.

DJGS00228 Counsel to the Chief of Staff. Effective September 10, 2010.

DJGS00622 Research Assistant to the Assistant Attorney General. Effective September 13, 2010.

DJGS00549 Counsel to the Assistant Attorney General. Effective September 24, 2010.

Department of Homeland Security

DMGS00768 New Media Specialist for Public Affairs. Effective September 22, 2010.

DMGS00836 Special Assistant for National Protection and Programs. Effective September 23, 2010.

DMGS00437 Counselor to United States Citizenship and Immigration Services. Effective September 28, 2010.

DMGS00432 Confidential Assistant to the Chief of Staff. Effective September 29, 2010.

DMGS00775 Counselor to United States Citizenship and Immigration Services. Effective September 29, 2010.

Department of the Interior

DIGS01201 Special Assistant of Ocean Energy Management, Regulation and Enforcement. Effective September 10, 2010.

Department of Agriculture

DAGS20019 Senior Program Manager for Global Food Security. Effective September 2, 2010.

DAGS00242 Chief of Staff for Marketing and Regulatory Programs. Effective September 9, 2010.

DAGS20040 Confidential Assistant for the Farm Service Agency. Effective September 9, 2010.

Department of Commerce

DCGS00590 Confidential Assistant to the Executive Secretariat. Effective September 3, 2010.

DCGS00639 New Media Director of Public Affairs. Effective September 10, 2010.

DCGS60372 Deputy Director of Policy/Senior Policy Advisor. Effective September 21, 2010.

DCGS00591 Special Assistant of Communications. Effective September 22, 2010.

DCGS00325 Deputy Director of the Advisory Committees. Effective September 24, 2010.

DCGS00576 Director of Scheduling and Advance. Effective September 24, 2010.

Department of Labor

DLGS60279 Regional Representative, Denver, for Congressional and Intergovernmental Affairs. Effective September 13, 2010.

DLGS60141 Special Assistant of Public Engagement. Effective September 28, 2010.

Department of Heath and Human Services

DHGS60243 Regional Director, Atlanta, Georgia, Region IV of Intergovernmental Affairs. Effective September 2, 2010.

Department of Education

DBGS00377 Confidential Assistant of Education. Effective September 24, 2010.

Environmental Protection Agency

EPGS10010 Senior Advisor for External Affairs and Environmental Education. Effective September 17, 2010.

EPGS10011 Deputy Press Secretary for Public Affairs. Effective September 17, 2010.

EPGS10012 Senior Advisor on External Communication for Public Affairs. Effective September 23, 2010.

EPGS10013 Press Secretary for Public Affairs. Effective September 23, 2010.

Department of Veterans Affairs

DVGS60005 Special Assistant of Veterans Affairs. Effective September 28, 2010.

Department of Energy

DEGS00829 Trip Coordinator for the Office of Scheduling and Advance. Effective September 8, 2010.

Small Business Administration

SBGS00610 Senior Advisor for Capital Access. Effective September 9, 2010.

General Services Administration

GSGS01446 White House Liaison to the Chief of Staff. Effective September 3, 2010.

GSGS01420 Regional Administrator to the Administrator. Effective September 9, 2010.

GSGS01437 Special Assistant for Small Business Utilization. Effective September 24, 2010.

GSGS01447 Special Assistant to the Regional Administrator. Effective September 24, 2010.

Export-Import Bank

EBSL94047 Senior Vice President, Communications to the President and Chairman. Effective September 3, 2010.

Commodity Futures Trading Commission

CTOT00015 Administrative Assistant to a Commissioner. Effective September 1, 2010.

National Endowment for the Humanities

NHGS60069 Confidential Assistant to the Chairman. Effective September 23, 2010.

Department of Housing and Urban Development

DUGS00025 Press Assistant for Public Affairs. Effective September 7, 2010.

DUGS00031 Division Director, Performance Management, for the Office of Strategic Planning and Management. Effective September 29, 2010.

DUGS00588 Media Outreach Specialist. Effective September 29, 2010.

National Transportation Safety Board

TBGS11536 Special Assistant to a Member. Effective September 8, 2010.

Authority: 5 U.S.C. 3301 and 3302; E.O. 10577, 3 CFR 1954-1958 Comp., p. 218.

U.S. Office of Personnel Management.
John Berry,
Director.

[FR Doc. 2010-27550 Filed 11-1-10; 8:45 am]

BILLING CODE 6325-39-P